NATIONAL AERONAUTICS AND SPACE ADMINISTRATION

[Notice (03-064)]

Notice of Prospective Patent License

AGENCY: National Aeronautics and Space Administration.

ACTION: Notice of prospective patent license.

SUMMARY: NASA hereby gives notice that Evergreen Performance & Compliance, Inc., of Ohio, has applied for an exclusive license to practice the invention described and claimed in NASA Case No. KSC-12540 entitled “High Performance Immobilized Liquid Membranes for Carbon Dioxide Separations,” which is assigned to the United States of America as represented by the Administrator of the National Aeronautics and Space Administration. Written objections to the prospective grant of an exclusive license to Evergreen Performance & Compliance, Inc. should be sent to Assistant Chief Counsel/Patent Counsel, NASA, Mail Code: CC-A, Office of the Chief Counsel, John F. Kennedy Space Center, Kennedy Space Center, FL 32899.

DATES: Responses to this Notice must be received within June 30, 2003.

FOR FURTHER INFORMATION CONTACT: Randall M. Heald, Patent Counsel/Assistant Chief Counsel, NASA, Office of the Chief Counsel, John F. Kennedy Space Center, Mail Code: CC-A, Kennedy Space Center, FL 32899, telephone (321) 867-7214.

Dated: May 30, 2003.
Robert M. Stephens,
Deputy General Counsel.

[FR Doc. 03-14938 Filed 6-12-03; 8:45 am]

BILLING CODE 7510-01-P